DEPARTMENT OF THE TREASURY

Office of Foreign Assets Control

Additional Designations of Terrorism-Related Blocked Persons

AGENCIES: Office of Foreign Assets Control, Treasury.

ACTION: Notice.

SUMMARY: The Treasury Department's Office of Foreign Assets Control is publishing the names of three additional entities whose property and interests in property have been blocked pursuant to Executive Order 13224 of September 23, 2001, pertaining to persons who commit, threaten to commit, or support terrorism.

DATES: The designation by the Office of Foreign Assets Control of three additional entities identified in this notice whose property and interests in property have been blocked pursuant to Executive Order 13224 is effective on November 18, 2002.

FOR FURTHER INFORMATION CONTACT: Office of Foreign Assets Control, Department of the Treasury, Washington, DC 20220, tel.: 202/622-2520.

SUPPLEMENTARY INFORMATION:

Electronic and Facsimile Availability

This document is available as an electronic file on The Federal Bulletin Board the day of publication in the Federal Register. By modem, dial 202/512-1387 and type “/GO FAC,” or call 202/512-1530 for disk or paper copies. This file is available for downloading without charge in ASCII and Adobe Acrobat ® readable (*.PDF) formats. For Internet access, the address for use with the World Wide Web (Home Page), Telnet, or FTP protocol is: fedbbs.access.gpo.gov. This document and additional information concerning the programs of the Office of Foreign Assets Control are available for downloading from the Office's Internet Home Page: http://www.treas.gov/ofac, or in fax form through the Office's 24-hour fax-on-demand service: call 202/622-0077 using a fax machine, fax modem, or (within the United States) a touch-tone telephone.

Background

On September 23, 2001, President Bush issued Executive Order 13224 (the “Order”) imposing economic sanctions on persons who commit, threaten to commit, or support certain acts of terrorism. In the annex to the Order, President Bush identified 12 individuals and 15 entities whose assets are blocked pursuant to the Order (66 FR 49079, September 25, 2001). Additional persons have been blocked pursuant to authorities set forth in the Order since that date and notices of these additional blockings have been published in the Federal Register.

Additional Designations. On November 18, 2002, the Office of Foreign Assets Control, acting pursuant to authorities set forth in the Order, designated three additional entities whose property and interests in property are blocked. The names of these additional entities are set forth in the list below. Persons, and their known aliases, will be added to appendix A to 31 CFR chapter V, through a separate Federal Register notice, as “specially designated global terrorists” identified by the initials “[SDGT]”. Appendix A lists the names of persons with respect to whom transactions are subject to the various economic sanctions programs administered by the Office of Foreign Assets Control.

The designation by the Office of Foreign Assets Control pursuant to Executive Order 13224 of these additional entities listed below is effective on November 18, 2002. All property and interests in property of any designated person, including but not limited to all accounts, that are or come within the United States or that are or come within the possession or control of United States persons, including their overseas branches, are blocked and may not be transferred, paid, exported, withdrawn, or otherwise dealt in, and all transactions or dealings by U.S. persons or within the United States in property or interests in property of any designated person are prohibited, unless licensed by the Office of Foreign Assets Control or exempted by statute.

The list of additional designations follow:

1. Benevolence International Foundation (a.k.a. Al Bir Al Dawalia; a.k.a. BIF; a.k.a. BIF-USA; a.k.a. Mezhdunarodnyj Blagotvoritel'Nyj Fond), 8820 Mobile Avenue, 1A, Oak Lawn, IL 60453, U.S.A.; P.O. Box 548, Worth, IL 60482, U.S.A.; formerly at 9838 S. Roberts Road, Suite 1W, Palos Hills, IL 60465, U.S.A.; formerly at 20-24 Branford Place, Suite 705, Newark, NJ 07102, U.S.A.; Bashir Safar Ugli 69, Baku, Azerbaijan; 69 Boshir Safaroglu St., Baku, Azerbaijan; Sarajevo, Bosnia-Herzegovina; Zenica, Bosnia-Herzegovina; “last known address,” 3 King Street, South Waterloo, Ontario, N2J 3Z6 Canada; “last known address,” P.O. Box 1508 Station B, Mississauga, Ontario, L4Y 4G2 Canada; “last known address,” 2465 Cawthra Rd., #203, Mississauga, Ontario, L5A 3P2 Canada; Ottawa, Canada; Grozny, Chechnya; 91 Paihonggou, Lanzhou, Gansu, China 730000; Hrvatov 30, 41000, Zagreb, Croatia; Makhachkala, Daghestan; Duisi, Georgia; Tbilisi, Georgia; Nazran, Ingushetia; Burgemeester Kessensingel 40, Maastricht, Netherlands; House 111, First Floor, Street 64, F-10/3, Islamabad, Pakistan; P.O. Box 1055, Peshawar, Pakistan; Azovskaya 6, km. 3, off. 401, Moscow, Russia 113149; Ulitsa Oktyabr'skaya, dom. 89, Moscow, Russia 127521; P.O. Box 1937, Khartoum, Sudan; P.O. Box 7600, Jeddah 21472, Saudi Arabia; P.O. Box 10845, Riyadh 11442, Saudi Arabia; Dushanbe, Tajikistan; United Kingdom; Afghanistan; Bangladesh; Bosnia-Herzegovina; Gaza Strip; Yemen; U.S. FEIN: 36-3823186 (entity).

2. Benevolence International Fund (a.k.a. Benevolent International Fund; a.k.a. BIF-Canada), “last known address,” 2465 Cawthra Rd., Unit 203, Mississauga, Ontario, L5A 3P2 Canada; “last known address,” P.O. Box 1508, Station B, Mississauga, Ontario, L4Y 4G2 Canada; “last known address,” P.O. Box 40015, 75 King Street South, Waterloo, Ontario, N2J 4V1 Canada; “last known address,” 92 King Street, 201, Waterloo, Ontario, N2J 1P5 Canada (entity).

3. Bosanska Idealna Futura (a.k.a. BECF Charitable Educational Center; a.k.a. Benevolence Educational Center; a.k.a. BIF-Bosnia; a.k.a. Bosnian Ideal Future), Salke Lagumdzije 12, 71000 Sarajevo, Bosnia-Herzegovina; Hadzije Mazica Put 16F, 72000 Zenica, Bosnia-Herzegovina; Sehidska Street, Breza, Bosnia-Herzegovina; Kanal 1, 72000 Zenica, Bosnia-Herzegovina; Hamze Celenke 35, Ilidza, Sarajevo, Bosnia-Herzegovina (entity).

Dated: December 2, 2002.
R. Richard Newcomb,
Director, Office of Foreign Assets Control.
Approved: December 8, 2002.
Kenneth Lawson,
Assistant Secretary (Enforcement), Department of the Treasury.

[FR Doc. 03-12 Filed 1-2-03; 8:45 am]

BILLING CODE 4810-25-P